DEPARTMENT OF COMMERCE

National Oceanic and Atmospheric Administration

[RTID 0648-XA794]

South Atlantic Fishery Management Council; Public Meetings

AGENCY: National Marine Fisheries Service (NMFS), National Oceanic and Atmospheric Administration (NOAA), Commerce.

ACTION: Notice of scoping meetings.

SUMMARY: The South Atlantic Fishery Management Council (Council) will hold a series of scoping meetings via webinar pertaining to Amendment 50 to the Fishery Management Plan for the Snapper Grouper Fishery of the South Atlantic Region. The amendment addresses catch levels, rebuilding plan, sector allocations, accountability measures, and management measures for red porgy.

DATES: The scoping meetings will be held via webinar on February 3 and 4, 2021.

ADDRESSES: Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The scoping meetings will be conducted via webinar and accessible via the internet from the Council's website at https://safmc.net/safmc-meetings/public-hearings-scoping-meetings/. The scoping meetings will begin at 6 p.m. Registration for the webinars is required. Registration information, a copy of the scoping materials, an online public comment form and any additional information as needed will be posted on the Council's website at https://safmc.net/safmc-meetings/public-hearings-scoping-meetings/ as it becomes available. Public comments must be received by 5 p.m. on February 5, 2021.

Amendment 50 to the Snapper Grouper FMP

The Council must adjust catch levels for red porgy in response to the most recent stock assessment for the species in the region (SEDAR 60 2020). The stock assessment results indicated the stock continues to be overfished and is undergoing overfishing. Consequently, catch levels must be adjusted based on the acceptable biological catch recommended by the South Atlantic Council's Scientific and Statistical Committee (SSC) and the rebuilding schedule must be revised. In addition, the Council is considering modifications to sector allocations, accountability measures, and commercial and recreational management measures to end overfishing and rebuild the red porgy stock.

During the scoping meetings, Council staff will present an overview of the amendment and will be available for informal discussions and to answer questions via webinar. Members of the public will have an opportunity to go on record to provide their comments for consideration by the Council.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: January 7, 2021.
Rey Israel Marquez,
Acting Deputy Director, Office of Sustainable Fisheries, National Marine Fisheries Service.

[FR Doc. 2021-00422 Filed 1-11-21; 8:45 am]

BILLING CODE 3510-22-P